DEPARTMENT OF DEFENSE

Office of the Secretary

[Transmittal No. 17-22]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-22 with attached Policy Justification.

Dated: November 28, 2017.
Aaron Siegel,
Alternate OSD Federal Register Liaison Officer, Department of Defense.

BILLING CODE 5001-06-P

BILLING CODE 5001-06-C

Transmittal No. 17-22

Notice of Proposed Issuance of Letter of Offer Pursuant to Section 36(b)(1) of the Arms Export Control Act, as amended

(i) Prospective Purchaser: Government of Qatar

(ii) Total Estimated Value:

—
Major Defense Equipment * | $0 billion
Other | $1.1 billion
Total | $1.1 billion

(iii) Description and Quantity or Quantities of Articles or Services under Consideration for Purchase:

Major Defense Equipment (MDE): None

Non-MDE:

Design and construction services, new parking/loading ramps, hot cargo pads, taxiways, hangars, back shops, alert facilities, weapons storage areas, hardened shelters, squadron operations facilities, maintenance facilities, training facilities, information technology support and cyber facilities, force protection support facilities, squadron operations facilities, other F-15QA related support structures, construction/facilities/design services, cybersecurity services, mission critical computer resources, support services, force protection services, and other related elements of logistics and program support.

(iv) Military Department: Air Force (X7-D-QAL)

(v) Prior Related Cases, if any:

Air Force: QA-D-SAC, QA-D-TAH, QA-D-YAB

Navy: QA-P-AAG, QA-P-AAE, QA-P-AAH, QA-P-LAC, QA-P-LAE

(vi) Sales Commission, Fee, etc., Paid, Offered. or Agreed to be Paid: None

(vii) Sensitivity of Technology Contained in the Defense Article or Defense Services Proposed to be Sold: None

(viii) Date Report Delivered to Congress: November 1, 2017

* As defined in Section 47(6) of the Arms Export Control Act.

POLICY JUSTIFICATION

Qatar—F-15QA Construction, Cybersecurity, and Force Protection Infrastructure

The Government of Qatar has requested support of its F-15QA multi-role fighter aircraft program to include design and construction services, new parking/loading ramps, hot cargo pads, taxiways, hangars, back shops, alert facilities, weapons storage areas, hardened shelters, squadron operations facilities, maintenance facilities, training facilities, information technology support and cyber facilities, force protection support facilities, squadron operations facilities, other F-15QA related support structures, construction/facilities/design services, cybersecurity services, mission critical computer resources, support services, force protection services, and other related elements of logistics and program support. The estimated cost is $1.1 billion.

This proposed sale supports the foreign policy and national security objectives of the United States. Qatar is an important force for political stability and economic progress in the Persian Gulf region. Our mutual defense interests anchor our relationship and the Qatar Emiri Air Force (QEAF) plays a predominant role in Qatar's defense.

The proposed sale improves Qatar's capability to operate and sustain its F-15QA aircraft. A robust construction, cybersecurity, and force protection infrastructure is vital to ensuring the QEAF partners can utilize the F-15QA aircraft to its full potential. Qatar will have no difficulty absorbing this support into its armed forces.

The proposed sale of this construction, cybersecurity, and force protection infrastructure will not alter the basic military balance in the region.

The prime contractor for construction, cybersecurity, and force protection infrastructure will be determined through competition. The purchaser typically requests offsets. Any offset agreement will be defined in negotiations between the purchaser and the contractor.

Implementation of the construction, cybersecurity, and force protection aspects of this notification include the establishment of a construction office in Doha with as many as ten (10) U.S. Government civilians which will adjust in size as case workload varies. Anticipated contractor footprint for this effort is approximately fifteen (15) to fifty (50) personnel, which may vary based on phases of construction and establishment of required services.

There will be no adverse impact to U.S. defense readiness as a result of this proposed sale.

[FR Doc. 2017-25974 Filed 12-1-17; 8:45 am]

BILLING CODE 5001-06-P